EXPORT-IMPORT BANK

[Public Notice: 2023-6093]

Agency Information Collection Activities: Submission to the Office of Management and Budget for Review and Approval; Comment Request; EIB 92-79, Commissioned Broker Application Form

AGENCY: Export-Import Bank of the United States.

ACTION: Notice of information collection; request for comment.

SUMMARY: The Export-Import Bank of the United States (EXIM), pursuant to the Export-Import Bank Act of 1945, as amended, facilitates the finance of the export of U.S. goods and services. As part of its continuing effort to reduce paperwork and respondent burden, EXIM invites the public and other Federal agencies to comment on the proposed information collection, as required by the paperwork Reduction Act of 1995.

DATES: Comments must be received on or before November 8, 2024 to be assured of consideration.

ADDRESSES: Comments may be submitted electronically on www.regulations.gov (EIB 92-79), by email to Jennifer Krause, jennifer.krause@exim.gov, or by mail to Jennifer Krause, Export-Import Bank of the United States, 811 Vermont Ave. NW, Washington, DC 20571.

FOR FURTHER INFORMATION CONTACT: To request additional information, please contact Jennifer Krause, jennifer.krause@exim.gov, 305.586.2022.

SUPPLEMENTARY INFORMATION: This form is used by insurance brokers to register with EXIM and by EXIM to make a determination of the eligibility of the broker to receive commission payments under Export-Import Bank's credit insurance programs.

The form can be viewed at https://img.exim.gov/s3fs-public/pub/pending/eib92-79_2024_508.pdf.

Title and Form Number: EIB 92-79, Commissioned Broker Application Form.

OMB Number: 3048-0024.

Type of Review: Regular.

Need and Use: This form is used by insurance brokers to register with EXIM. The form provides EXIM staff with the information necessary to make a determination of the eligibility of the broker to receive commission payments under Export-Import Bank's credit insurance programs. Our customers will be able to submit this form on paper or electronically.

Affected Public: This form affects entities engaged in brokering export credit insurance policies.

Annual Number of Respondents: 3.

Estimated Time per Respondent: 15 minutes.

Frequency of Reporting or Use: As needed.

Andrew Smith,
Records Officer.

[FR Doc. 2024-20179 Filed 9-6-24; 8:45 am]

BILLING CODE 6690-01-P